DEPARTMENT OF DEFENSE

Office of the Secretary

Service of Process Notification for Child Support and/or Alimony Allotments

AGENCY: Office of the Under Secretary of Defense (Comptroller), DoD.

ACTION: Notice.

SUMMARY: The processing of statutory allotments for child support and/or alimony from the pay of active duty military members is governed by statute. Upon proper notification from an authorized person, the Defense Finance and Accounting Service (DFAS) will start a statutory child or child and spousal support allotment from the pay and allowances of a member on extended active duty when the member has failed to make periodic payments, under a support order, in an amount equal to the support payable for 2 months or longer. This Federal Register notice provides the requirements of the notification to DFAS and the DFAS Designated Official's address for submitting the notification.

FOR FURTHER INFORMATION CONTACT: Kellie Allison at 703-614-0410.

SUPPLEMENTARY INFORMATION:

Background

The DoD published a final rule in this issue of the Federal Register removing 32 CFR part 54, DoD's regulation that relates to allotments for child and spousal support. The statutorily required child or child and spousal support allotments in 42 U.S.C. 665 cover members of the Military Services on extended active duty. DoD's internal policy is located in the DoD Financial Management Regulation, Volume 7A, Chapter 41 “Garnishments and Other Involuntary Allotments” (available at http://comptroller.defense.gov/Portals/45/documents/fmr/archive/07aarch/07a_41_Dec10.pdf). Although DoD is removing this CFR part, this Federal Register notice is being published to provide the requirements of the notification to DFAS and the DFAS Designated Official's address for submitting the notification.

Authorized Person

An authorized person is any agent or attorney of any state having in effect a plan approved under 42 U.S.C. 651 et seq., who has the duty or authority to seek recovery of any amounts owed by a member of the Military Services as child or child and spousal support; and the court that has the authority to issue an order against a member of the Military Services for the support and maintenance of a child, or any agent of such court.

Notice to Designated Official

An authorized person will send the DFAS designated official a signed notice that includes:

—A statement that delinquent support payments equal or exceed the amount of support payable for 2 months under a support order, and a request that an allotment be established;

—A certified copy of the support order. If the support order, on its face, appears to conform to the laws of the jurisdiction from which it was issued, then the designated official will not be required to ascertain whether the authority that issued the order had obtained personal jurisdiction over the member;

—The amount of the monthly support payment. Such amount may include arrearages, if a support order specifies the payment of such arrearages. The notice will indicate how much of the amount payable will be applied toward liquidation of the arrearages;

—A statement that delinquent support payments are more than 12 weeks in arrears, if appropriate;

—The following information that identifies the member:

—Full name;

—Social security number; and

—Military Service of the member;

—The full name and address of the allottee. The allottee will be an authorized person, or designee, or the recipient named in the support order;

—Any limitations on the duration of the support allotment; and

—A certification that the official sending the notice is an authorized person.

The notice can be mailed or delivered in person to the designated official. The designated official will note the date and time of receipt on the notice.

The notice is effective when it is received in the office of the designated official.

DFAS Designated Official

The designated official is the DFAS Site Director or designee authorized to receive and to process the notification. The DFAS designated official and address is: Director, Garnishment Operations, DFAS Cleveland, P.O. Box 998002, Cleveland, OH 44199-8002.

Dated: March 29, 2019.
Shelly E. Finke,
Alternate OSD Federal Register Liaison Officer, Department of Defense.

[FR Doc. 2019-06477 Filed 4-2-19; 8:45 am]

BILLING CODE 5001-06-P